DEPARTMENT OF THE INTERIOR

Bureau of Land Management

[LLWY930000-L16100000-DS0000]

Notice of Intent To Prepare a Resource Management Plan for the Rock Springs Field Office, Wyoming and Associated Environmental Impact Statement and Call for Coal Information

AGENCY: Bureau of Land Management, Interior.

ACTION: Notice of Intent.

SUMMARY: In compliance with the National Environmental Policy Act of 1969 (FLPMA), as amended, and the Federal Land Policy and Management Act of 1976, as amended, the Bureau of Land Management (BLM), Rock Springs Field Office (RSFO), Rock Springs, Wyoming, intends to prepare a Resource Management Plan (RMP) with an associated Environmental Impact Statement (EIS) and by this notice is announcing the beginning of the scoping process to solicit public comments and identify issues. The BLM is also soliciting resource information for coal and other resources for the planning area. The Rock Springs RMP will replace the existing Green River RMP (1997).

DATES: This notice initiates the public scoping process for the RMP and associated EIS. Comments on issues may be submitted in writing until April 4, 2011 A series of public scoping meetings will be held in Rock Springs, Farson, and Lyman, Wyoming. The meeting times and addresses will be announced through the local news media, newsletters, mailings, and the BLM Web site at http://www.blm.gov/wy/st/en/programs/Planning/rmps/RockSprings.html at least 15 days prior to the event. In order to be included in the Draft RMP/EIS, all comments must be received prior to the close of the scoping period or 30 days after the last public scoping meeting, whichever is later. The BLM will provide additional opportunities for public participation upon publication of the Draft RMP/EIS.

ADDRESSES: You may submit comments on issues and planning criteria related to the Rock Springs RMP/EIS by any of the following methods: Web site: http://www.blm.gov/wy/st/en/programs/Planning/rmps/RockSprings.html; E-mail: RockSpringsRMP_WY@blm.gov; Fax: (307) 352-0218; or Mail: 280 Hwy 191 North, Rock Springs, Wyoming 82901.

Documents pertinent to this proposal may be examined at the BLM RSFO, during regular business hours 7:30 a.m. to 4:30 p.m., Monday through Friday, except holidays.

FOR FURTHER INFORMATION CONTACT: For information or to have your name added to the project mailing list, contact Vera-Lynn Harrison, Project Manager, at (307) 352-0259 or Vera_Harrison@blm.gov.

SUPPLEMENTARY INFORMATION: This document provides notice that the BLM RSFO intends to prepare an RMP with an associated EIS for the Rock Springs planning area, announces the beginning of the scoping process, and seeks public input on issues and planning criteria. The planning area includes portions of Lincoln, Sweetwater, Uinta, Sublette, and Fremont counties in southwestern Wyoming. The Rock Springs RMP decision area includes public lands administered by the BLM RSFO and encompasses approximately 3.6 million acres of surface land and 3.5 million acres of mineral estate. The decision area excludes private, State, tribal trust, or other Federal lands or subsurface mineral estates not administered by the BLM.

The purpose of the public scoping process is to identify issues that will influence the scope of the environmental analysis, including alternatives, and guide the planning process. Preliminary issues have been identified by BLM personnel through an interdisciplinary process and include, but are not limited to: cultural and historic resources, Native American concerns, energy and minerals development, renewable energy and associated transmission infrastructure, fire and fuels management, lands and realty actions, paleontological resources, recreation management, special designations, lands with wilderness characteristics and Wild Lands, vegetation management, livestock grazing/rangeland management, visual resources concerns, soil and water management, wildlife habitat management including protection of sensitive species habitat, healthy landscapes initiative, air quality and global climate change, wild horse and burro management, and the economic effects of BLM actions. Additional identified BLM management concerns include: drought management, forest resources, invasive species/noxious weeds, public safety, and the wildland-urban interface.

Preliminary planning criteria include: (1) The RSFO RMP revision will comply with FLPMA and all other applicable laws, regulations, and policies; (2) The RSFO RMP revision will analyze impacts from all alternatives in accordance with regulations at 43 CFR part 1610 and 40 CFR part 1500; (3) Decisions in the RSFO plan revision will only apply to public lands and the mineral estate managed by the BLM; (4) The revision process will follow the Land Use Planning Handbook H-1601-1; (5) The planning process will include broad-based public participation; (6) The revision process will consider management of lands with wilderness characteristics and designation of Wild Lands; and (7) Revised RSFO planning decisions will consider and incorporate existing plans and policies of adjacent local, State, Federal, and tribal agencies to the extent consistent with Federal law and regulations applicable to public lands. Parties interested in leasing and developing Federal coal in the planning area should provide coal resource data for their area(s) of interest. Specifically, information is requested on the location, quality, and quantity of Federal coal with development potential, and on surface resource values related to the 20 coal unsuitability criteria described in 43 CFR part 3461. This information will be used for any necessary updating of coal screening determinations in the planning area. The coal screening process is described in 43 CFR 3420.1-4.

Proprietary data marked as confidential may be submitted in response to this call for coal information. Please submit all proprietary information submissions to the address listed above. The BLM will treat submissions marked as “Confidential” in accordance with applicable laws and regulations governing the confidentiality of such information. Public participation will be encouraged throughout the process. The BLM will collaborate and build relationships with tribes, State and local governments, Federal agencies, local stakeholders, and others within the community of interest for the RMP. You may submit comments on issues and planning criteria in writing to the BLM at any public scoping meeting, or you may submit them to the BLM using one of the methods listed in the ADDRESSES section above. To be most helpful, you should submit comments by the close of the scoping period or within 30 days after the last public meeting, whichever is later. Before including your address, phone number, e-mail address, or other personal identifying information in your comment, you should be aware that your entire comment-including your personal identifying information-may be made publicly available at any time. While you can ask us in your comment to withhold your personal identifying information from public review, we cannot guarantee that we will be able to do so. The minutes and list of attendees for each scoping meeting will be available to the public and open for 30 days after the meeting to any participant who wishes to clarify the views he or she expressed.

The BLM will evaluate identified issues to be addressed in the plan and will place them into one of three categories:

1. Issues to be resolved by the plan;

2. Issues to be resolved through policy or administrative action; or

3. Issues that are beyond the scope of this plan.

The BLM will explain in the RMP Draft EIS why issues are placed in categories two or three. The public is also encouraged to identify any management questions and concerns that should be addressed in the plan. The BLM will work collaboratively with the interested parties to identify the management decisions that are best suited to local, regional, and national needs and concerns.

The BLM will use an interdisciplinary approach to develop the plan in order to consider the variety of resource issues and concerns identified. Specialists with expertise in the following disciplines will be involved in the planning process: Threatened and endangered species, wildlife, air resources, vegetation, riparian and wetlands, soils, invasive and noxious weeds, rangeland management, fire ecology and management, cultural resources and Native American concerns, hydrology, geology and minerals, lands and realty, recreation, visual resource management, public safety, law enforcement, and geographic information systems.

Authority: 40 CFR 1501.7 and 43 CFR 1610.2

Donald A. Simpson,
State Director.

[FR Doc. 2011-2201 Filed 1-31-11; 8:45 am]

BILLING CODE 4310-22-P